DEPARTMENT OF ENERGY

Federal Energy Regulatory Commission

[Docket Nos. EL18-28-000; QF12-252-004]

Elk Hills Power, LLC; Notice of Request for Waiver

Take notice that on November 8, 2017, pursuant to section 292.205(c) of the Federal Energy Regulatory Commission's (Commission) implementing the Public Utility Regulatory Policies Act of 1978, as amended 18 CFR 292.205(c) (2017), Elk Hills Power, LLC (EHP) submitted a request for limited waiver of the operating standard set forth in section 292.205(a)(1) for the topping-cycle cogeneration facility owned and operated by EHP, as more fully explained in its request.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on November 29, 2017.

Dated: November 9, 2017.
Nathaniel J. Davis, Sr.,
Deputy Secretary.

[FR Doc. 2017-24798 Filed 11-15-17; 8:45 am]

BILLING CODE 6717-01-P